DEPARTMENT OF AGRICULTURE

Forest Service

Shasta-Trinity National Forest; California; Browns Project

AGENCY: Forest Service, USDA.

ACTION: Notice of intent to prepare an environmental impact statement (EIS).

SUMMARY: The Browns Project is being proposed by the Shasta-Trinity National Forest to improve fuel condition through commercial timber harvest and closing of some unneeded roads. The purpose for the project is to decrease fire hazards in an area adjacent to the community of Weaverville. The project area located within T34N, R10W, sections 27, 34, and 36; T33N, R10W, section 1; T34N R9W, sections 16, 20-22, and 27-34; T33N, R9W, section 6, M.D.M. approximately 2 miles north of the community of Weaverville, California

DATES: Comments concerning the scope of the analysis must be received no later than 30 days after the publication of this notice in the Federal Register The draft environmental impact statement is expected in April, 2005, and the final environmental impact statement is expected in July, 2005.

ADDRESSES: Send written comments to Sam Frink, Planning Team Leader, c/o USFS, P.O. Box 1190, Weaverville, CA 96093. For further information, mail correspondence to Sam Frink, Planning Team Leader, c/o USFS, PO Box 1190, Weaverville, CA 96093.

FOR FURTHER INFORMATION CONTACT: Bill Branham, Planning Officer, phone 530-623-1750.

SUPPLEMENTARY INFORMATION:

Purpose and Need for Action

Thinning will reduce overcrowded conditions in forest areas where too many trees currently exist. Reducing density will improve the health of these forest areas by making more water, nutrients and sunlight available for use by the remaining trees (conifers and hardwoods). This will improve the health of the forest and improve tree resistence to insects, pathogens and drought. Too many small trees in the understory can act as a fuel ladder and carry fire into the canopy layer of the forest resulting in the death of a large number of trees. Small trees act as a fuel ladder because their crowns are closer to the ground and allow flames to move into the canopy. Removing small trees raises the crown base height and reduces the likelihood of flames reaching the canopy layer.

The removal of groups of trees and re-planting with tree seedlings is being proposed to increase the amount of younger forests to improve the diversity of age classes. The harvest and sale of wood products will provide wood products to society and offset the cost of treatment.

Proposed Action

The project will include the following treatments:

—Timber harvest treatments will include thinning harvest on about 760 acres, group selection harvest (2 acre groups of trees) and re-planting with tree seedlings on about 40 acres. The volume of timber harvested will amount to about 9.0 million board feet. Within the thinning harvest areas we intend to remove the poorer growing, smaller trees. The healthiest, better growing, generally larger trees will be retained. Thinning areas will have a crown closure of about 40% after the harvest is completed, except within riparian reserve areas, where crown closure will be about 60%. After the harvest treatments, accumulations of excess down wood and slash will be either underburned or piled and burned.

—The project includes about 5 miles of road construction and about 3 miles of road reconstruction. About 4 miles of temporary roads constructed to access the harvest areas will subsequently be closed.

Implementation of the proposed project is planned during the calendar years 2005-1010, and may involve multiple timber sale and service contracts. No permits or special authorizations will be required.

Lead and Cooperating Agencies

Lead Agency: USDA Forest Service.

Responsible Official

J. Sharon Heywood, Forest Supervisor, Shasta-Trinity National Forest, 3644 Avtech Parkway, Redding, California 96002.

Nature of Decision To Be Made

The Forest Supervisor will decide whether to implement the proposed action, take an alternative action that meets the purpose and need, or take no action.

Scoping

Information on the proposed action will be noticed in the Record Searchlight and the Trinity Journal. The proposed action will be listed in the Shasta-Trinity National Forest's quarterly schedule of proposed actions (SOPA). This notice of intent initiates the scoping process, which guides the development of the environmental impact statement. Comments submitted during this scoping process should be in writing and specific to the proposed action. Comments should clearly describe any issues you have with the proposed action. Issues are points of debate, dispute, concern, or disagreement about the environmental effects of the proposal. Issues identified as significant to the proposed action will be used in the environmental analysis.

The scoping process includes:

(a) Identifying potential issues.

(b) Identifying issues to be analyzed in depth.

(c) Eliminating non-significant issues or those previously covered by a relevant previous environmental analysis.

(d) Exploring additional alternatives.

(e) Identifying potential environmental effects of the proposed action and alternatives.

Preliminary Issues and Alternatives

Issues will be identified as a result of scoping. One alternative has been identified that builds fewer roads.

Early Notice of Importance of public Participation in Subsequent Environmental Review: A draft environmental impact statement will be prepared for comment. The comment period on the draft environmental impact statement will be 45 days from the date the Environmental Protection Agency publishes the notice of availability in the Federal Register. The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21)

Dated: February 3, 2005.
J. Sharon Heywood,
Forest Supervisor, Shasta-Trinity National Forest.

[FR Doc. 05-2606 Filed 2-9-05; 8:45 am]

BILLING CODE 3410-11-M